ENVIRONMENTAL PROTECTION AGENCY

[EPA-HQ-RCRA-2015-0836; FRL-9949-08-OEI]

Information Collection Request Submitted to OMB for Review and Approval; Comment Request; Collection of Information on Anaerobic Digestion Facilities Processing Wasted Food To Support EPA's Sustainable Food Management Programs (New)

AGENCY: Environmental Protection Agency (EPA).

ACTION: Notice.

SUMMARY: The Environmental Protection Agency has submitted an information collection request (ICR), “Collection of Information on Anaerobic Digestion Facilities Processing Wasted Food to Support EPA's Sustainable Food Management Programs (New)” (EPA ICR No. 2533.01, OMB Control No. 2050-NEW) to the Office of Management and Budget (OMB) for review and approval in accordance with the Paperwork Reduction Act (44 U.S.C. 3501 et seq.). This is a request for approval of a new collection. Public comments were previously requested via the Federal Register (81 FR 10856) on March 2, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 28, 2016.

ADDRESSES: Submit your comments, referencing Docket ID Number EPA-HQ-RCRA-2015-0836, to (1) EPA online using www.regulations.gov, by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Melissa Pennington, U.S. Environmental Protection Agency, Region 3, Mail Code 3LC40, 1650 Arch Street, Philadelphia, PA 19103; telephone number: (215) 814-3372; email address: pennington.melissa@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is (202) 566-1744. For additional information about EPA's public docket, visit http://www.epa.gov/dockets.

Abstract: EPA's Office of Land and Emergency Management Sustainable Food Management (SFM) program is designed to advance sustainable food management practices throughout the United States by preventing and diverting wasted food from landfills. The focal point of the SFM program is the Food Recovery Challenge in which organizations pledge to improve their sustainable food management practices. The success of the SFM program efforts to divert wasted food from landfills requires sufficient capacity to process the diverted materials which includes composting and anaerobic digestion operations. In addition to increasing opportunity to process wasted food diverted from the municipal solid waste stream, anaerobic digesters achieve social, environmental and economic benefits, such as generation of renewable energy, reduction of methane emissions, and opportunities to improve soil health through the production of soil amendments. The SFM program supports these efforts by educating state and local governments and communities about the benefits of wasted food diversion. The SFM program also builds partnerships with state agencies and other strategic partners interested in developing organics recycling capacity and provides tools to assist organizations in developing anaerobic digestion (AD) projects.

This information collection consists of a request for data not currently available on AD facilities processing wasted food as well as a review and update of the existing SFM AD facility inventory. Correspondence will include an electronic survey through which respondents can provide new information on their AD projects and an update to the existing AD facility inventory, if appropriate.

Form Numbers: 6700-03, 6700-04, 6700-05.

Respondents/affected entities: State Liaisons, Industry Representatives, Project Owner/Operators, and Other Stakeholders (e.g. non-profits).

Respondent's obligation to respond: Voluntary.

Estimated number of respondents: 460 (total).

Frequency of response: Annually.

Total estimated burden: 231 hours (per year). Burden is defined at 5 CFR 1320.03(b).

Total estimated cost: $16,972 (per year), includes $0 annualized capital or operation & maintenance costs.

Changes in Estimates: There are no changes in burden estimates as this is a new ICR.

Courtney Kerwin,
Director, Regulatory Support Division.

[FR Doc. 2016-20608 Filed 8-26-16; 8:45 am]

BILLING CODE 6560-50-P